DEPARTMENT OF COMMERCE

UNITED STATES PATENT AND TRADEMARK OFFICE

Submission for OMB Review; Comment Request

The United States Patent and Trademark Office (USPTO) has resubmitted to the Office of Management and Budget (OMB) for clearance the following proposal for collection of information under the provisions of the Paperwork Reduction Act (44 U.S.C. Chapter 35).

AGENCY: United States Patent and Trademark Office (USPTO).

Title: Post Allowance and Refiling.

Form Numbers: PTO/SB/44/50/51/51S/52/53/54/55/56/57/58 and PTOL-85B.

Agency Approval Number: 0651-0033.

Type of Request: Revision of a currently approved collection.

Burden: 51,593.5 hours.

Number of Respondents: 172,475 responses.

Avg. Hours Per Response: The USPTO estimates that it will take the public approximately two hours to gather, prepare, and submit a request for inter partes reexamination of a patent. The USPTO estimates that it will take the public anywhere from 1.8 minutes to two hours, depending on the complexity of the situation, to gather, prepare, and submit the documents associated with a request for a certificate of correction, reissue application, request for ex parte reexamination of a patent, and issue fee transmittal. These estimates are unchanged from the last renewal of this information collection package on September 24, 1997.

Needs and Uses: This collection of information is required to administer the patent law pursuant to title 35, U.S.C., concerning the issuance of patents and related actions including correcting errors in printed patents, refiling of patent applications, requesting ex parte or inter partes reexamination of a patent, and requesting a reissue patent to correct an error in a patent.

Affected Public: Individuals or households, businesses or other for-profit, not-for-profit institutions, farms, Federal Government, and State, local or tribal governments.

Frequency: On occasion.

Respondent's Obligation: Required to obtain or retain benefits.

OMB Desk Officer: David Rostker (202) 395-3897.

Copies of the above information collection proposal can be obtained by calling or writing Susan K. Brown, Records Officer, Data Administration Division, Office of Data Management, United States Patent and Trademark Office, Crystal Park 3, 3rd Floor, Suite 310, Washington, D.C. 20231, by phone at (703) 308-7400, or via the Internet at (susan.brown@uspto.gov).

Written comments and recommendations for the proposed information collection should be sent within 30 days of publication to David Rostker, OMB Desk Officer, Room 10236, New Executive Office Building, 725 17th Street, NW, Washington, DC 20503.

Dated: October 25, 2000.
Susan K. Brown,
Records Officer, Data Administration Division, Office of Data Management.

[FR Doc. 00-28067 filed 11-1-00; 8:45 a.m.]

BILLING CODE: 3510-16-P